DEPARTMENT OF DEFENSE

Office of the Secretary

[Transmittal Nos. 11-44]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 11-44 with attached transmittal, policy justification, and Sensitivity of Technology.

Dated: November 4, 2011.
Aaron Siegel,
Alternate OSD Federal Register Liaison Officer, Department of Defense.

BILLING CODE 5001-06-P

BILLING CODE 5001-06-C

Notice of Proposed Issuance of Letter of Offer Pursuant to Section 36(b)(1) of the Arms Export Control Act, as Amended

(i) Prospective Purchaser: India.

(ii) Total Estimated Value:

Major Defense Equipment* | $ .650 billion.
Other | .550 billion.
Total | 1.200 billion.
*As defined in Section 47(6) of the Arms Export Control Act.

(iii) Description and Quantity or Quantities of Articles or Services Under Consideration for Purchase: 6 Lockheed Martin C-130J United States Air Force (USAF) baseline aircraft including: USAF baseline equipment, 6 Rolls Royce AE 2100D3 spare engines, 8 AN/AAR-47 Missile Warning Systems (two of them spares), 8 AN/ALR-56M Advanced Radar Warning Receivers (two of them spares), 8 AN/ALE-47 Counter-Measures Dispensing Systems (two of them spares), 8 AAQ-22 Star SAFIRE III Special Operations Suites (two of them spares), 8 ARC-210 Radios (Non-COMSEC), and 3200 Flare Cartridges. Also included are spare and repair parts, configuration updates, communications security equipment and radios, integration studies, support equipment, publications and technical documentation, technical services, personnel training and training equipment, foreign liaison office support, Field Service Representatives' services, U.S. Government and contractor engineering and logistics personnel services, and other related elements of logistics support.

(iv) Military Department: Air Force (SAD).

(v) Prior Related Cases, if any: FMS case SAA-$962M-Jan08.

(vi) Sales Commission, Fee, etc., Paid, Offered, or Agreed To Be Paid: None.

(vii) Sensitivity of Technology Contained in the Defense Article or Defense Services Proposed To Be Sold: See Attached Annex.

(viii) Date Report Delivered to Congress: 26 October 2011.

Policy Justification

India—C-130J Aircraft

The Government of India has requested a possible sale of 6 Lockheed Martin C-130J United States Air Force (USAF) baseline aircraft including: USAF baseline equipment, 6 Rolls Royce AE 2100D3 spare engines, 8 AN/AAR-47 Missile Warning Systems (two of them spares), 8 AN/ALR-56M Advanced Radar Warning Receivers (two of them spares), 8 AN/ALE-47 Counter-Measures Dispensing Systems (two of them spares), 8 AAQ-22 Star SAFIRE III Special Operations Suites (two of them spares), 8 ARC-210 Radios (Non-COMSEC), and 3200 Flare Cartridges. Also included are spare and repair parts, configuration updates, communications security equipment and radios, integration studies, support equipment, publications and technical documentation, technical services, personnel training and training equipment, foreign liaison office support, Field Service Representatives' services, U.S. Government and contractor engineering and logistics personnel services, and other related elements of logistics support. The estimated cost is $1.2 billion.

This proposed sale will contribute to the foreign policy and national security of the United States by helping to improve the security of an important partner and to strengthen the U.S.-India strategic relationship.

The proposed sale will provide the Indian Government with a credible special operations airlift capability that will help deter aggression in the region and provide enhanced humanitarian assistance and disaster relief support.

The proposed sale of this equipment and support will not alter the basic military balance in the region.

The prime contractors will be Lockheed Martin Aeronautics Company in Marietta, Georgia, and Rolls-Royce Corporation in Indianapolis, Indiana. Offset agreements associated with this proposed sale are expected, but at this time the specific offset agreements are undetermined and will be defined in negotiations between the purchaser and the contractors.

Implementation of this proposed sale may require the assignment of ten U.S. Government and contractor representatives in India for a period of up to three years.

There will be no adverse impact on U.S. defense readiness as a result of this proposed sale.

Annex—Item No. vii

(vii) Sensitivity of Technology

1. The C-130 Hercules aircraft performs primarily the tactical portion of the airlift mission. The aircraft is capable of operating from rough, dirt strips and is the prime transport for air dropping troops and equipment into hostile areas. The C-130 operates throughout the U.S. Air Force, fulfilling a wide range of operational missions in both peace and war. The C-130J improvements over the C-130E include improved maximum speed, climb time, cruising altitude and range. The C-130J has 55 feet of cargo compartment length, an additional 15 feet over the original “short” aircraft.

2. The AN/ALE-47 Counter-Measures Dispensing System (CMDS) is an integrated, threat-adaptive, software-programmable dispensing system capable of dispensing chaff, flares, and active radio frequency expendables. The threats countered by the CMDS include radar-directed anti-aircraft artillery (AAA), radar command-guided missiles, radar homing guided missiles, and infrared (IR) guided missiles. The system is internally mounted and may be operated as a stand-alone system or may be integrated with other on-board early warning and avionics systems. The AN/ALE-47 uses threat data received over the aircraft interfaces to assess the threat situation and to determine a response. Expendable routines tailored to the immediate aircraft and threat environment may be dispensed using one of four operational modes. Hardware is Unclassified. Technical data and documentation to be provided is Unclassified.

3. The AN/AAR-47 Missile Warning System is a small, lightweight, passive, electro-optic, threat warning device used to detect surface-to-air missiles fired at helicopters and low-flying fixed-wing aircraft and automatically provide countermeasures, as well as audio and visual-sector warning messages to the aircrew. The basic system consists of multiple Optical Sensor Converter (OSC) units, a Computer Processor (CP) and a Control Indicator (CI). The set of OSC units, normally four, is mounted on the aircraft exterior to provide omni-directional protection. The OSC detects the rocket plume of missiles and sends appropriate signals to the CP for processing. The CP analyzes the data from each OSC and automatically deploys the appropriate countermeasures. The CP also contains comprehensive built-in test circuitry. The control indicator displays the incoming direction of the threat, so that the pilot can take appropriate action. Hardware is Unclassified. Technical data and documentation to be provided is Unclassified.

4. The AN/ALR-56M Advanced Radar Warning Receiver continuously detects and intercepts radio frequency signals in certain frequency ranges and analyzes and separates threat signals from non-threat signals. It contributes to full-dimensional protection by providing individual aircraft probability of survival through improved aircrew situational awareness of the radar-guided threat environment. The ALR-56M is designed to provide improved performance in a dense signal environment and improved detection of modern threats signals. Hardware is Unclassified. Technical data and documentation to be provided is Unclassified.

5. The AN/AAQ-22 Star SAFIRE III is a gyro-stabilized, multi-spectral Electro-Optical/Infrared (EO/IR) system configured to operate simultaneously in multiple bands including the visible, near-IR and mid-wave IR bands. The system consists of an externally mounted turret sensor unit and internally mounted central electronics unit and system control unit. Images will be displayed in the aircraft real-time, and recorded for subsequent ground analysis. Hardware is considered Unclassified. Technical data and documentation to be provided are considered Unclassified.

6. If a technologically advanced adversary were to obtain knowledge of the specific hardware or software in this proposed sale, the information could be used to develop countermeasures that might reduce system effectiveness or be used in the development of a system with similar or advanced capabilities.

[FR Doc. 2011-29054 Filed 11-8-11; 8:45 am]

BILLING CODE 5001-06-P